DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of data collections using Form ETA 563, Quarterly Determinations, Allowance Activities, and Employability Services Under the Trade Act (1205-0016 expires 12/02), and reinstatement Form ETA 9027 (1205-0016 expired 11/90), Training Waivers Issued and Revoked.

A copy of the proposed information collection request (ICR) can be obtained by contacting the office listed below in the addressee section of this notice.

DATES: Written comments must be submitted to the office listed in the addressee section below on or before December 24, 2002.

ADDRESSES: Erin L. FitzGerald, Program Analyst, Division of Trade Adjustment Assistance, Room C-5311, 200 Constitution Ave., NW., Washington, DC 20210. Phone (202) 693-3506 (this is not a toll-free number), fax (202) 693-3584, e-mail efitzgerald@doleta.gov.

SUPPLEMENTARY INFORMATION:

I. Background

The Trade Act of 1974, Section 236(d), as amended, requires the President to submit an annual report to the Congress on the trade agreements program, which includes information on trade adjustment assistance for workers. Furthermore, key workload data on the Trade Adjustment Assistance (TAA) and North American Free Trade Agreement-Transitional Adjustment Assistance (NAFTA-TAA) programs are needed to allocate program and administrative funds to State agencies administering the program for the Secretary. The Trade Adjustment Assistance Reform Act of 2002 amended the Trade Act of 1974. This revision to the ETA 563 (1205-0016 expires 12/02) incorporates changes necessary to accurately reflect the 2002 amendments.

The Trade Act of 1974, Section 231(a)(5)(A), as amended by the Trade Adjustment Assistance Reform Act of 2002, requires participants to be enrolled in training within 16 weeks of their most recent qualifying separation or 8 weeks of the certification covering the worker in order to receive income support. The Trade Act as amended, Section 231(c), allows the enrollment in training requirement to be waived, and provides 6 specific criteria for issuing waivers. Allowable reasons for waiving the training requirement include the worker is expected to be recalled, the worker possesses marketable skills, the worker is within 2 years of retirement, the worker is in poor health, enrollment is not available, and training is not available. The statute requires the State agencies administering the Trade Adjustment Assistance (TAA) program for the Secretary to report to the Secretary on training waivers issued and revoked. The data collected in the reinstated and revised ETA 9027 (1205-0016 expired 11/90) will serve as that report and will also be used in the Secretary's annual report to Congress on training waivers issued and revoked.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

This is a notice of proposed revision of collection of information currently approved by OMB (ETA 563, 1205-0016 expires 12/02) and proposed reinstatement with changes of a collection of information previously approved by OMB (ETA 9027, 1205-0016 expired 11/90). This revision of the ETA 563 incorporates amendments in benefit eligibility set forth in the Trade Adjustment Assistance Reform Act of 2002, reduces the burden hours, and eliminates data elements duplicated in the Trade Act Participant Report (TAPR) (1205-0392, expires 2/04). The reinstatement with changes of the ETA 9027 complies with amendments in waiver eligibility and required reporting set forth in the Trade Adjustment Assistance Reform Act of 2002.

Type of Review: Revision.

Agency: Employment and Training Administration.

Title: Quarterly Determinations, Allowance Activities, and Employability Services Under the Trade Act; Training Waivers Issued and Revoked.

OMB Number: 1205-0016.

Recordkeeping: 2 years.

Affected Public: State or Local Government.

Cite/reference | Total respondents | Frequency | Total responses | Average time per response | Burden
ETA 563 | 52 | Quarterly | 17,100 | 8 minutes | 2,223 hours.
ETA 9027 | 52 | Quarterly | 180 | 15 minutes | 45 hours.
Combined Reprogramming burden | 52 | One time |  | Minimal | Minimal.
Totals |  |  | 17,280 |  | 2,268 hours.

Total Burden Cost (capital/startup): $100,000.

Total Burden Cost (operating/maintaining): 0.

Comments submitted in response to this comment request will be summarized and/or included in the request for Office of Management and Budget approval of the information collection request; they will also become a matter of public record.

Dated: October 22, 2002.
Edward A. Tomchick,
Director, Division of Trade Adjustment Assistance.

[FR Doc. 02-27211 Filed 10-24-02; 8:45 am]

BILLING CODE 4510-30-P